DEPARTMENT OF TRANSPORTATION

Federal Highway Administration

Notice of Final Federal Agency Actions on Proposed Highway in Washington

AGENCY: Federal Highway Administration (FHWA), DOT.

ACTION: Notice of limitation on claims for judicial review of actions by FHWA and other Federal agencies.

SUMMARY: This notice announces actions taken by FHWA and other Federal agencies that are final within the meaning of 23 U.S.C. 139(l)(1). The actions relate to the I-405, Bellevue to Lynnwood Improvement Project, located in the cities of Bellevue; Kirkland, Bothell, Lynnwood, and the counties of King and Snohomish along Interstate (I)-405 in the State of Washington. These actions grant licenses, permits, and approvals for the project.

DATES: By this notice, FHWA is advising the public of final agency actions subject to 23 U.S.C. 139(1). A claim seeking judicial review of the Federal agency actions on the listed highway project will be barred unless the claim is filed on or before January 30, 2012. If the Federal law that authorizes judicial review of a claim provides a time period of less than 180 days for filing such claim, then that shorter time period still applies.

FOR FURTHER INFORMATION CONTACT: Pete Jilek, Urban Area Engineer, Federal Highway Administration, 711 S. Capitol Way #501, Olympia, Washington, 98501; telephone: (360) 753-9550; and e-mail: pete.jilek@.dot.gov. The FHWA Washington Division Urban Area Engineer's regular office hours are between 6 a.m. and 3:30 p.m. (Pacific Time). You may also contact William Jordan, I-405 Environmental Manager, Washington State Department of Transportation, 600-108th Avenue NE., Suite 405, Bellevue, Washington, 98004; telephone: (425) 457-0642; and e-mail: william.jordan@i405.wsdot.wa.gov. The I-405 Corridor Program's regular office hours are between 8 a.m. and 5 p.m. (Pacific Time).

SUPPLEMENTARY INFORMATION: Notice is hereby given that FHWA and other Federal agencies have taken final agency actions by issuing licenses, permits, and approvals for the following highway project in the State of Washington: I-405, Bellevue to Lynnwood Improvement Project. The Project begins on I-405 at NE. 6th Street in Bellevue (milepost [MP] 13.5) at the southern limit, and extends approximately 17 miles to I-5 in Lynnwood (MP 30.0) at the northern limit.

This Project complements the I-405, SR 520 to SR 522—Kirkland Nickel Project, the NE. 195th Street to SR 527 Auxiliary Lane Project (opened in 2010); and the NE. 8th Street to SR 520 Braided Ramps Project (scheduled to open in 2012). The Bellevue to Lynnwood Improvement Project description assumes full completion of the Kirkland Nickel Project, the first stage of which was opened to traffic in late 2007. The Bellevue to Lynnwood Improvement Project will provide:

• One additional northbound lane between NE. 124th Street and SR 522;

• Braided ramps between the I-405 northbound on-ramp from NE. 160th Street and the northbound I-405 off-ramp to SR 522;

• Southbound transit shoulders between SR 522 and NE. 160th Street and between SR 527 and NE. 195th Street;

• New northbound and southbound structures over NE. 132nd Street and a new northbound structure over the railroad for the I-405 northbound off-ramp to NE. 124th Street;

• Small amounts of additional widening, between four and eight feet, at several locations for buffers, wider shoulders, tolling equipment, Washington State Patrol enforcement areas, and WSDOT maintenance pull-outs; and

• Minor upgrades to pedestrian facilities in some interchange areas.

WSDOT will also implement an express toll lane system. The system will provide two express toll lanes in each direction between NE. 6th Street and SR 522 and one express toll lane in each direction between SR 522 and I-5.

These actions by the Federal agencies, and the laws under which such actions were taken, are described in the May 2011 Environmental Assessment (EA) and in the July 20, 2011, Finding of No Significant Impact (FONSI), and in other documents in the FHWA administrative record. The EA, FONSI and other documents in the FHWA administrative record are available by contacting FHWA or WSDOT at the addresses provided above. The EA can be viewed and downloaded from the project Web site at http://www.wsdot.wa.gov/projects/i405 or viewed at public libraries in the project area.

This notice applies to all Federal agency decisions on the project as of the issuance date of this notice and all laws under which such actions were taken, including but not limited to:

1. General: National Environmental Policy Act [42 U.S.C. 4321-4351]; Federal-Aid Highway Act [23 U.S.C. 109].

2. Air: Clean Air Act, as amended [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544]; Anadromous Fish Conservation Act [16 U.S.C. 757(a)-757(g)]; Fish and Wildlife Coordination Act [16 U.S.C. 661-667(d)]; Magnuson-Stevenson Fishery Conservation and Management Act of 1976, as amended [16 U.S.C. 1801 et seq.].

5. Historic and Cultural Resources: Section 106 of the National Historic Preservation Act of 1966, as amended [16 U.S.C. 470(f) et seq.]; Archaeological Resources Protection Act of 1977 [16 U.S.C. 470(aa)-11]; Archaeological and Historic Preservation Act [16 U.S.C. 469-469(c)]; Native American Grave Protection and Repatriation Act [25 U.S.C. 3001-3013].

6. Social and Economic: Civil Rights Act of 1964 [42 U.S.C. 2000(d)-2000(d)(1)]; American Indian Religious Freedom Act [42 U.S.C. 1996]; Farmland Protection Policy Act [7 U.S.C. 4201-4209]; the Uniform Relocation Assistance and Real Property Acquisition Policies Act of 1970, as amended [42 U.S.C. 61].

7. Wetlands and Water Resources: Clean Water Act, 33 U.S.C. 1251-1377 (Section 404, Section 401, Section 319); Coastal Zone Management Act [16 U.S.C. 1451-1465]; Land and Water Conservation Fund [16 U.S.C. 4601-4604]; Safe Drinking Water Act [42 U.S.C. 300(f)-300(j)(6)]; Rivers and Harbors Act of 1899 [33 U.S.C. 401-406]; TEA-21 Wetlands Mitigation [23 U.S.C. 103(b)(6)(m), 133(b)(11)]; Flood Disaster Protection Act [42 U.S.C. 4001-4128].

8. Hazardous Materials: Comprehensive Environmental Response, Compensation, and Liability Act [42 U.S.C. 9601-9675]; Superfund Amendments and Reauthorization Act of 1986 [PL 99-499]; Resource Conservation and Recovery Act [42 U.S.C. 6901-6992(k)].

9. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: July 27, 2011.
Peter A. Jilek,
Urban Area Engineer, Olympia, Washington.

[FR Doc. 2011-19558 Filed 8-2-11; 8:45 am]

BILLING CODE 4910-22-P